DEPARTMENT OF AGRICULTURE

Forest Service

Information Collection; Secure Rural Schools Act

AGENCY: Forest Service, USDA.

ACTION: Notice; request for comment.

SUMMARY: In accordance with the Paperwork Reduction Act of 1995, the Forest Service is seeking comments from all interested individuals and organizations on the extension of the information collection, Secure Rural Schools Act.

DATES: Comments must be received in writing on or before July 30, 2019 to be assured of consideration. Comments received after that date will be considered to the extent practicable.

ADDRESSES: Comments concerning this notice should be addressed to Leanne Veldhuis, National Secure Rural Schools Program Coordinator, USDA Forest Service, Washington Office—Yates Building, 1400 Independence Avenue, Mailstop #1158, Washington, DC 20250; all comments should identify OMB 0596-0220.

The public may inspect comments received at website: http://www.fs.usda.gov/main/pts/countyfunds/certification.

FOR FURTHER INFORMATION CONTACT: Leanne Veldhuis, National Secure Rural Schools Program Coordinator, by phone at 202-649-1177 or via email at lveldhuis@fs.fed.us.

Individuals who use telecommunication devices for the deaf (TDD) may call the Federal Information Relay Service (FIRS) at 1-800-877-8339 between 8:00 a.m. and 8:00 p.m., Eastern Standard Time, Monday through Friday.

SUPPLEMENTARY INFORMATION:

Title: Secure Rural Schools Act.

OMB Number: 0596-0220.

Expiration Date of Approval: August 31, 2019.

Type of Request: Extension.

Abstract: The Secure Rural Schools and Community Self-Determination Act of 2000 (the Act) (16 U.S.C. 7101 et seq.), as reauthorized in Public Law 115-141, requires the appropriate official of a county that receives funds under Title III of the Act to submit to the appropriate Secretary an annual certification that the funds expended have been used as authorized.

The appropriate official of each participating county will be requested to report the amount of Title III funds expended in the applicable year in these categories as specified in the Act:

(1) To carry out authorized activities under the Firewise Communities Program;

(2) To reimburse the participating county for search and rescue and other emergency services, including firefighting and law enforcement patrols;

(3) To cover training costs and equipment purchases directly related to the emergency service described in paragraph (2); and

(4) To develop and carry out community wildfire protection plans.

The information collection will identify the participating county, the year in which the expenditures were made, the name, title, and signature of the certifying official; and the date of the certification. The certification will include a statement that all expenditures were for uses authorized under the Act and that the proposed uses were published and had a 60-day comment period and were submitted to the appropriate Secure Rural Schools Act resource advisory committee(s), if any, as described in Section 302(b) of the Act.

Beginning with the certification due on February 1, 2019, the information collection also will request the county to certify the amount of Title III funds received since October of 2008 that has not been obligated as of September 30th of the previous year. This collection is necessary in the certification due on February 1, 2022, to determine the amount of Title III funds that must be returned to the United States Treasury under section 304(b) of the Act. Collection of this information in 2019 is consistent with a recent audit of county uses of Title III funds by the Government Accountability Office (http://www.gao.gov/products/GAO-12-775). A county's procedure for and documentation of its obligation of Title III funds should be consistent with its procedures to obligate funds from other Federal sources.

In summary, the February 1, 2019, information collection will certify Title III funds expended in calendar year 2018, and the amount of Title III funds not obligated as of September 30, 2018. The February 1, 2020, information collection will certify Title III funds expended in calendar year 2019 and the amount of Title III funds not obligated as of September 30, 2019.

The determination of who is the appropriate certifying official is at the discretion of the county and borough and will vary depending on county or borough organization. For unorganized boroughs in Alaska and for participating counties in Vermont, a state official may provide the information.

The information will be collected in the form of conventional correspondence such as a letter and, at the respondent's option, attached tables or similar graphic display. The Forest Service provides an optional form for the convenience of respondents. At the respondent's discretion, the information may be submitted by hard copy and/or electronically scanned and included as an attachment to electronic mail.

Under the Act, the first response was required by February 1, 2010 for funds expended in 2009. Responses are required by February 1st of the following year each year Title III funds are expended. The Act requires Title III funds to be obligated by September 30, 2021, or be returned to the U.S. Treasury; therefore, the funds are likely to be expended or returned in 2021 and the final certification of expenditures could be made by February 1, 2022.

The Department of the Interior and the Bureau of Land Management are also authorized to participate in this information collection because the Bureau of Land Management administers Federal lands in western Oregon covered by the Act. The information will be reviewed by the appropriate Secretary, or designee, to verify that participating counties have certified that funds were expended as authorized in the Act and to identify amounts not obligated by September 30th of the previous year. The information also may be used by the Department of the Interior because it is relevant to its Payments in Lieu of Taxes (PILT) program.

Estimate of Annual Burden per Respondent: The estimated time required for each respondent to collect, prepare and submit the information is 24 hours each year, including an estimated 20 hours for collection and four hours for preparation and submission.

Type of Respondents: Respondents are county officials.

Estimated Annual Number of Respondents: 344 county officials are expected to respond each year.

Estimated Annual Number of Responses per Respondent: The Act requires only one response for each participating county for each year expenditures are made, except that sixteen counties in western Oregon will respond separately to the Department of the Interior and the Department of Agriculture.

Estimated Total Annual Burden on Respondents: The estimated time required for all respondents (344 counties) to collect, prepare, and submit the information is 8,256 hours each year.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: May 14, 2019.
Victoria Christiansen,
Chief, Forest Service.

[FR Doc. 2019-11402 Filed 5-30-19; 8:45 am]

BILLING CODE 3411-15-P